ENVIRONMENTAL PROTECTION AGENCY

40 CFR Part 52

[CT-057-7216f; FRL-7618-1]

Approval and Promulgation of Air Quality Implementation Plans; Connecticut; Withdrawal of Direct Final Rule

AGENCY: Environmental Protection Agency (EPA).

ACTION: Withdrawal of direct final rule.

SUMMARY: Due to an adverse comment, EPA is withdrawing the direct final rule to approve Connecticut's 2005 and 2007 motor vehicle emissions budgets recalculated using MOBILE6.2 for the Connecticut portion of the New York-Northern New Jersey-Long Island nonattainment area and to approve Connecticut's 2007 motor vehicle emissions budgets for the Greater Connecticut nonattainment area also recalculated using MOBILE6.2. In the direct final rule published on December 18, 2003 (68 FR 70437), we stated that if we received adverse comment by January 20, 2004, the rule would be withdrawn and not take effect. EPA subsequently received an adverse comment. EPA will address the comment received in a subsequent final action based upon the proposed action also published on December 18, 2003 (68 FR 70484). EPA will not institute a second comment period on this action.

EFFECTIVE DATE: The Direct final rule is withdrawn as of February 4, 2004.

FOR FURTHER INFORMATION CONTACT: Donald O. Cooke, Environmental Scientist, Air Quality Unit, U.S. Environmental Protection Agency, EPA New England Regional Office, One Congress Street, Suite 1100 (CAQ), Boston, MA 02114-2023, (617) 918-1668, cooke.donald@epa.gov.

List of Subjects in 40 CFR Part 52

Environmental protection, Air pollution control, Hydrocarbons, Intergovernmental relations, Oxides of Nitrogen, Ozone, Reporting and recordkeeping requirements, Volatile organic compounds.

Authority: 42 U.S.C. 7401 et seq.

Dated: January 26, 2004.
Robert W. Varney,
Regional Administrator, EPA New England.

Accordingly, the revisions of 40 CFR 52.377(b), (c) and (d) (which published in the Federal Register on December 18, 2003 at 68 FR 70437) are withdrawn as of February 4, 2004.

[FR Doc. 04-2266 Filed 2-3-04; 8:45 am]

BILLING CODE 6560-50-P